DEPARTMENT OF COMMERCE

International Trade Administration

[A-351-841, A-570-924, A-520-803]

Polyethylene Terephthalate Film, Sheet, and Strip From Brazil, the People's Republic of China and the United Arab Emirates: Antidumping Duty Orders and Amended Final Determination of Sales at Less Than Fair Value for the United Arab Emirates

AGENCY: Import Administration, International Trade Administration, Department of Commerce.

SUMMARY: Based on affirmative final determinations by the Department of Commerce (the Department) and the International Trade Commission (ITC), the Department is issuing antidumping duty orders on polyethylene terephthalate film, sheet, and strip (PET Film) from Brazil, the People's Republic of China (PRC), and the United Arab Emirates (UAE). On October 31, 2008, the ITC notified the Department of its determination that the U.S. industry is threatened with material injury. See PET Film from Brazil, the PRC, and the UAE (Investigation Nos. 731-TA-1131-1134 (Final), USITC Publication 4040, October 2008). In addition, the Department is amending the final dumping margins for the UAE.

DATES: Effective Date: November 10, 2008.

FOR FURTHER INFORMATION CONTACT: Mike Heaney (Brazil), Scot Fullerton (PRC), or Douglas Kirby (UAE), Import Administration, International Trade Administration, U.S. Department of Commerce, 14th Street and Constitution Avenue, NW., Washington, DC 20230; telephone: (202) 482-4475, (202) 482-1386, or (202) 482-3782, respectively.

SUPPLEMENTARY INFORMATION:

Background

On September 24, 2008, the Department published its final determinations of sales at less than fair value in the antidumping duty investigations of PET Film from Brazil, the PRC, and the UAE. See Notice of Final Determination of Sales at Less Than Fair Value: Polyethylene Terephthalate Film, Sheet, and Strip from Brazil, 73 FR 55035 (September 24, 2008); Polyethylene Terephthalate Film, Sheet, and Strip from the People's Republic of China: Final Determination of Sales at Less Than Fair Value, 73 FR 55039 (September 24, 2008); and Polyethylene Terephthalate Film, Sheet, and Strip from the United Arab Emirates: Final Determination of Sales at Less Than Fair Value, 73 FR 55036 (September 24, 2008) (UAE Final Determination).

Also, on September 24, 2008, Flex Middle East FZE (Flex UAE), respondent in the UAE investigation, timely alleged ministerial errors in the UAE Final Determination. See “Amendment to the UAE Final Determination” section below.

On October 31, 2008, the ITC notified the Department of its final determination pursuant to section 735(b)(1)(A)(ii) of the Tariff Act of 1930, as amended (the Act), that an industry in the United States is threatened with material injury by reason of less than fair value imports of subject merchandise from Brazil, the PRC, and the UAE. See letter from the ITC to the Secretary of Commerce, “Notification of Final Affirmative Determination of Polyethylene Terephthalate Film, Sheet, and Strip (PET Film) from Brazil, the People's Republic of China (PRC), and the United Arab Emirates (UAE) (Investigation Nos. 701-TA-452, 731-TA-1129, 731-TA-1130),” dated October 31, 2008. Pursuant to section 736(a) of the Act, the Department is publishing antidumping duty orders on the subject merchandise.

Scope of the Orders

The products covered by each of these orders are all gauges of raw, pre-treated, or primed PET film, whether extruded or co-extruded. Excluded are metallized films and other finished films that have had at least one of their surfaces modified by the application of a performance-enhancing resinous or inorganic layer more than 0.00001 inches thick. Also excluded is roller transport cleaning film which has at least one of its surfaces modified by application of 0.5 micrometers of SBR latex. Tracing and drafting film is also excluded. PET film is classifiable under subheading 3920.62.00.90 of the Harmonized Tariff Schedule of the United States (HTSUS). While HTSUS subheadings are provided for convenience and customs purposes, our written description of the scope of these orders is dispositive.

Amendment to the UAE Final Determination

As noted above, on September 24, 2008, Flex UAE, the sole respondent in the UAE investigation, timely alleged ministerial errors in the UAE Final Determination. After examining Flex UAE's allegations, the Department determined that there were two ministerial errors. The Department's consideration of Flex UAE's allegations and correction of the ministerial errors are presented in the Memorandum to Barbara E. Tillman, Director, AD/CVD Operations, Office 6: “Ministerial Error Allegations—Final Determination of Sales at Less Than Fair Value of Polyethylene Terephthalate Film, Sheet and Strip (PET Film) from the United Arab Emirates: Flex Middle East FZE (Flex UAE),” dated October 14, 2008, available in the public file in the Central Records Unit (CRU), Room 117, of the Main Commerce Building.

As a result of correcting for these ministerial errors, we are amending the UAE Final Determination with respect to Flex UAE. The amended weighted-average dumping margin for Flex UAE has changed from 4.80 percent to 4.05 percent. As Flex UAE's margin was the basis for the all others rate, we are also amending the all others rate to 4.05 percent.

Antidumping Duty Orders

On October 31, 2008, in accordance with section 735(d) of the Act, the ITC notified the Department of its final determination that the industry in the United States producing PET Film is threatened with material injury within the meaning of section 735(b)(1)(A)(ii) of the Act by reason of imports of subject merchandise at less than fair value from Brazil, the PRC, and the UAE. In accordance with section 736(a)(1) of the Act, the Department will direct U.S. Customs and Border Protection (CBP) to assess, upon further information from the Department, antidumping duties equal to the amount by which the normal value of the merchandise exceeds the export price (or the constructed export price) of the merchandise for all relevant entries of PET Film from Brazil, the PRC, and the UAE.

Pursuant to section 736(b)(2) of the Act, duties shall be assessed on subject merchandise entered, or withdrawn from warehouse, for consumption on or after the date of publication of the ITC's notice of final determination if that determination is based on the threat of material injury, other than threat of material injury described in section 736(b)(1) of the Act. Section 736(b)(1) states that “{i}f the Commission, in its final determination under section 735(b), finds material injury or threat of material injury which, but for the suspension of liquidation under section 733(d)(2) would have led to a finding of material injury, then entries of the subject merchandise, the liquidation of which has been suspended under section 733(d)(2), shall be subject to the imposition of antidumping duties under section 731.” In addition, section 736(b)(2) of the Act requires CBP to release any bond or other security, and refund any cash deposit made of estimated antidumping duties posted since the Department's preliminary antidumping duty determinations. Because the ITC's final determinations in these cases is based on the threat of material injury and is not accompanied by a finding that injury would have resulted, but for the imposition of suspension of liquidation of entries since the Department's preliminary determinations, section 736(b)(2) of the Act is applicable. Therefore, the Department will direct CBP to assess, upon further information from the Department, antidumping duties on all unliquidated shipments of PET Film from Brazil, the PRC, and the UAE entered, or withdrawn from warehouse, for consumption on or after the date of publication of the ITC's notice of final determination of threat of material injury in the Federal Register .

Cash Deposit Requirements

Effective on the date of publication of the ITC's notice of final determination in the Federal Register , CBP will require, at the same time as importers would deposit estimated normal customs duties on this merchandise, cash deposits for the subject merchandise equal to the estimated weighted-average antidumping margins listed below. See section 736(a)(3) of the Act. The all others rates or PRC-wide rate, as applicable, apply to all producers or exporters not specifically listed.

Brazil
Manufacturer/exporter | Weighted-average margin (percent)
Terphane Inc. | 44.36
All Others | 28.72

The People's Republic of China
Exporter | Producer | Weighted-average margin (percent)
DuPont Teijin Films China Ltd. | DuPont Hongji Films Foshan Co. Ltd. | 3.49
DuPont Teijin Films China Ltd. | DuPont Teijin Hongji Films Ningbo Co., Ltd. | 3.49
Fuwei Films (Shandong) Co., Ltd. | Fuwei Films (Shandong) Co., Ltd. | 3.49
Shaoxing Xiangyu Green Packing Co., Ltd | Shaoxing Xiangyu Green Packing Co., Ltd | 3.49
Sichuan Dongfang Insulating Material Co., Ltd | Sichuan Dongfang Insulating Material Co. Ltd | 3.49
Tianjin Wanhua Co., Ltd. | Tianjin Wanhua Co., Ltd. | 3.49
Shanghai Uchem Co., Ltd. | Sichuam Dongfang Insulating Material Co., Ltd | 3.49
Shanghai Uchem Co., Ltd. | Shanghai Xishu Electric Material Co., Ltd | 3.49
PRC-wide Entity (including Jiangyin Jinzhongda New Material Co., Ltd.) |  | 76.72

The United Arab Emirates
Manufacturer/exporter | Weighted-average margin (percent)
Flex Middle East FZE | 4.05
All others | 4.05

Termination of Suspension of Liquidation

The Department will also instruct CBP to terminate the suspension of liquidation for entries of PET Film from Brazil, the PRC, and the UAE entered, or withdrawn from warehouse, for consumption prior to the publication of the ITC's notice of final determination, and refund any cash deposits made and release any bonds posted between the publication of the Department's preliminary determinations on May 5, 2008, and the publication of the ITC's final determinations in the Federal Register.

This notice constitutes the antidumping duty orders with respect to PET Film from Brazil, the PRC, and the UAE, pursuant to section 736(a) of the Act. Interested parties may contact the Department's CRU, Room 1117 of the Main Commerce Building, for copies of an updated list of antidumping duty orders currently in effect.

These orders and amended determination are issued and published in accordance with sections 736(a), 735(e), and 777(i)(1) of the Act and 19 CFR 351.211(b).

Dated: November 5, 2008.
David M. Spooner,
Assistant Secretary for Import Administration.

[FR Doc. E8-26802 Filed 11-6-08; 11:15 am]

BILLING CODE 3510-DS-P